DEPARTMENT OF HOMELAND SECURITY

Coast Guard

[USCG-2003-15026]

Health Information Privacy Program

AGENCY: Coast Guard, DHS.

ACTION: Notice.

SUMMARY: The Coast Guard announces provisions to allow for appropriate uses and disclosures of protected health information concerning members of the Armed Forces to assure the proper execution of the military mission. A similar notice has been published by the Department of Defense for members of the Armed Forces within their jurisdiction.

DATES: This notice is effective as of April 14, 2003.

FOR FURTHER INFORMATION CONTACT: Chief, Clinical Support and Quality Assurance Division, Office of Health Services, Health and Safety Directorate, U.S. Coast Guard Headquarters, 2100 Second Street, SW., Washington, DC 20593-0001, 202-267-6101.

SUPPLEMENTARY INFORMATION: Under 45 CFR part 164,“Standards for Privacy of Individually Identifiable Health Information,” a covered entity may use and disclose the protected health information of individuals who are Armed Forces personnel for activities deemed necessary by appropriate military command authorities to assure the proper execution of the military mission. However, the appropriate military authority must publish a notice in the Federal Register indicating the appropriate military command authorities and the purposes for which the protected health information may be used or disclosed. The Department of Defense has already published a notice with respect to members of the Armed Forces within the jurisdiction of that Department (68 FR 17357, April 9, 2003). The present notice implements those provisions with respect to members of the Coast Guard or members of the other Armed Forces falling within the Coast Guard's jurisdiction. Under 45 CFR 164.512(k)(1)(i), the Coast Guard has established the following provisions:

1. General rule. A covered entity (including a covered entity not part of or affiliated with the Department of Homeland Security) may use and disclose the protected health information of individuals who are Armed Forces personnel for activities deemed necessary by appropriate military command authorities to assure the proper execution of the military mission.

2. Appropriate Military Command Authorities. For purposes of paragraph 1, appropriate Military Command authorities are the following:

2.1. All Commanders who exercise authority over an individual who is a member of the Armed Forces, or other persons designated by such a Commander to receive protected health information in order to carry out an activity under the authority of the Commander.

2.2. The Secretary of Homeland Security, when the Coast Guard is not operating as a service in the Department of the Navy.

2.3. Any official delegated authority by the Secretary of Homeland Security to take an action designed to ensure the proper execution of the military mission.

3. Purposes for which protected health information may be used or disclosed. For purposes of paragraph 1, the purposes for which any and all of the protected health information of an individual who is a member of the Armed Forces may be used or disclosed are as follows:

3.1. To determine the member's fitness for duty, including but not limited to the member's compliance with standards and all other activities carried out under the authority of COMDTINST M1020.8C, “Allowable Weight Standards for the Health and Well-being of Coast Guard Military Personnel;” COMDTINST M1850.2C, “Physical Disability Evaluation System;” and similar requirements pertaining to fitness for duty.

3.2. To determine the member's fitness to perform any particular mission, assignment, order, or duty, including any actions required as a precondition to performance of such a mission, assignment, order, or duty.

3.3. To carry out activities under the authority of COMDTINST M6000.1B, “The Coast Guard Medical Manual,” chapter 12 (Occupational Medical Surveillance & Evaluation Program).

3.4. To report on casualties in any military operation or activity according to applicable Coast Guard regulations or procedures.

3.5. To carry out any other activity necessary to the proper execution of the mission of the Armed Forces.

Dated: April 23, 2003.
Kenneth T. Venuto,
Rear Admiral, U.S. Coast Guard, Assistant Commandant for Human Resources.

[FR Doc. 03-10422 Filed 4-25-03; 8:45 am]

BILLING CODE 4910-15-P